DEPARTMENT OF DEFENSE

Office of the Secretary

Membership of the Performance Review Board

AGENCY: Missile Defense Agency (MDA), DoD.

ACTION: Notice.

This notice announces the appointment of the members of the Performance Review Board (PRB) of the Missile Defense Agency. The publication of PRB membership is required by 5 U.S.C. 4314(c)(4).

The Performance Review Board (PRB) provides fair and impartial review of Senior Executive Service performance appraisals and makes recommendations regarding performance ratings and performance scores to the Director, MDA.

DATES: Effective Date: October 31, 2006.

FOR FURTHER INFORMATION CONTACT: Gail Gallant, MDA SES Program Manager, Missile Defense Agency, Arlington, Virginia, (703) 693-1744.

SUPPLEMENTARY INFORMATION: In accordance with 5 U.S.C. 4314(c)(4), the following executives are appointed to the Missile Defense Agency PRB: Brigadier General Marvin K. McNamara, Dr. Patricia Sanders, Mr. Keith Englander, Mr. Michael Cifrino, Brigadier General Patrick O'Reilly.

Executives listed will serve a one-year term, effective October 31, 2006.

Dated: October 13, 2006.
C.R. Choate,
Alternate OSD Federal Register Liaison Officer, Department of Defense.

[FR Doc. 06-8768 Filed 10-18-05; 8:45am]

BILLING CODE 5001-06-M